DEPARTMENT OF TRANSPORTATION

Office of the Secretary

[Docket Number DOT-OST-2014-0228]

Notice of Applications for Certificates of Public Convenience and Necessity and Foreign Air Carrier Permits Filed Under Subpart B (Formerly Subpart Q) During the Week Ending December 20, 2014

AGENCY: Department of Transportation (DOT).

SUMMARY: The following Applications for Certificates of Public Convenience and Necessity and Foreign Air Carrier Permits were filed under Subpart B (formerly Subpart Q) of the Department of Transportation's Procedural Regulations (See 14 CFR 302. 201 et seq.). The due date for Answers, Conforming Applications, or Motions to Modify Scope are set forth below for each application. Following the Answer period DOT may process the application by expedited procedures. Such procedures may consist of the adoption of a show-cause order, a tentative order, or in appropriate cases a final order without further proceedings.

Date Filed: December 19, 2014.

Due Date for Answers, Conforming Applications, or Motion to Modify Scope: January 9, 2015.

Description

Application of Air Busan Co., Ltd. requesting an exemption and a foreign air carrier permit authorizing Air Busan to engage in (1) scheduled foreign air transportation of persons, property, and mail from points behind the Republic of Korea via the Republic of Korea and intermediate points to a point or points in the United States and beyond; (2) charter foreign air transportation of persons, property and mail between any point or points in the Republic of Korea and any point or points in the United States, and between any point or points in the United States and any point or points in a third country or countries, provided that such service constitutes part of a continuous operation, with or without a change of aircraft, that includes service to the Republic of Korea for the purpose of carrying local traffic between the Republic of Korea and the United States; and (3) other charter foreign air transportation.

Barbara J. Hairston,
Supervisory Dockets Officer, Docket Operations, Federal Register Liaison.

[FR Doc. 2015-04442 Filed 3-3-15; 8:45 am]

BILLING CODE 4910-9X-P